DEPARTMENT OF ENERGY

Federal Energy Regulatory Commission

[Docket No. RP03-16-001

Northern Border Pipeline Company; Notice of Compliance Filing

December 18, 2002.

Take notice that on December 13, 2002, Northern Border Pipeline Company (Northern Border) tendered for filing to become part of its FERC Gas Tariff, First Revised Volume No. 1, Fourth Revised Sheet No. 120, and Original Sheet No. 120A, to become effective January 15, 2003.

Northern Border states that the purpose of this filing is to comply with the Commission's order at Docket No. RP03-16-000, dated November 26, 2002 (101 FERC 61,249), wherein the Commission directed Northern Border to revise Northern Border's FERC Gas Tariff to state clearly the timing of Northern Border's ROFR process when there are no acceptable third party bids and also clarify the procedures taken when the ROFR process is completed and there has been no award of capacity.

Northern Border states that copies of this filing have been sent to all of Northern Border's contracted shippers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: December 26, 2002.

Linwood A. Watson, Jr.,
Deputy Secretary.

[FR Doc. 02-32484 Filed 12-23-02; 8:45 am]

BILLING CODE 6717-01-P